DEPARTMENT OF JUSTICE

Notice of Lodging of Consent Decree Pursuant to Comprehensive Environment Response, Compensation, and Liability Act

Notice is hereby given that on April 17, 2003, a proposed consent decree in United States v. Wyeth, et al, Civil Action No. 03-1758, was lodged with the United States District Court for the District of New Jersey.

In this action, the United States alleges under, inter alia, Section 107 of the Comprehensive Environmental Response, Compensation, and Liability Act (CERCLA), 42 U.S.C. 9607, that Wyeth, f/k/a American Home Products, Corporation, and Wyeth Holdings Corporation, f/k/a American Cyanamid Company, are liable for the federal government's costs in responding to the release or threatened release of hazardous substances at the American Cyanamid Superfund Site in Bridgewater Township, Somerset County, New Jersey (the Site). Under the terms of the proposed consent decree, the settling defendants will pay the United States the sum of $220,000 with respect to the United States' claims.

The Department of Justice will receive for a period of thirty (30) days from the date of this publication comments relating to the proposed consent decree. Comments should be addressed to the Assistant Attorney General of the Environment and Natural Resources Division, Department of Justice, Washington, DC 20530, and should refer to United States v. Wyeth, et al., Civil Action No. 03-1758, D.J. Ref. 90-11-3-07250.

The proposed consent decree may be examined at the Office of the United States Attorney, District of New Jersey, 970 Broad Street, Newark, New Jersey 07102, and at U.S. Environmental Protection Agency Region II, 290 Broadway, New York, New York 10007-1866. During the public comment period, the proposed consent decree, may also be examined on the following Department of Justice Web site, http://www.usdoj.gov/enrd/open.html. A copy of the proposed consent decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decre, please so note and enclose a check in the amouint of $4.50 (25 cent per page reproduction cost) payable to the U.S. Treasury.

Ronald Gluck,
Assistant Chief, Environmental Enforcement Section Environment and Natural Resources Division.

[FR Doc. 03-11402 Filed 5-7-03; 8:45 am]

BILLING CODE 4410-15-M